DEPARTMENT OF ENERGY

Federal Energy Regulatory Commission

[Docket No. EG00-159-000, et al.]

Front Range Power Company, LLC, et al.; Electric Rate and Corporate Regulation Filings

June 7, 2000.

Take notice that the following filings have been made with the Commission:

1. Front Range Power Company, LLC,

[Docket No. EG00-159-000]

Take notice that on June 5, 2000, Front Range Power Company, LLC, 6647 Generation Drive, Fountain, Colorado 80817, filed with the Federal Regulatory Commission an application for determination of exempt wholesale generator status pursuant to part 365 of the Commission's regulations.

Front Range Power Company, LLC is a Colorado limited liability company formed by Coastal Power Company (Coastal), a Delaware corporation and wholly owned affiliate of The Coastal Corporation and Colorado Springs Utilities (CSU), an enterprise of the City of Colorado Springs, Colorado, to develop, design, construct, own, operate and maintain a natural gas-fired combined-cycle electric generation plant with a maximum capacity of approximately 480 MW, located on a 23-acre parcel of land approximately 17 miles south of Colorado Springs, Colorado.

Comment date: June 28, 2000, in accordance with Standard Paragraph E at the end of this notice. The Commission will limit its consideration of comments to those that concern the adequacy or accuracy of the application.

2. Southaven Power, LLC

[Docket No. EL00-81-000]

Take notice that on June 1, 2000, Southaven Power, LLC (Southaven) filed a request for waiver of requirements under Order Nos. 888 and 889, with respect to certain interconnection facilities associated with Southaven's generating facility to be located near Southaven, Mississippi.

Comment date: July 3, 2000, in accordance with Standard Paragraph E at the end of this notice.

3. Allegheny Energy Service Corporation, on behalf of Monongahela Power Company, The Potomac Edison Company and West Penn Power Company (Allegheny Power)

[Docket No. ER00-1666-000]

Take notice that on June 1, 2000, Allegheny Energy Service Corporation on behalf of Monongahela Power Company, The Potomac Edison Company and West Penn Power Company (Allegheny Power) filed a notification as directed by the Commission's Order in Docket No. ER00-1666-000 on May 8, 2000 at 91 FERC ¶ 61,122, that it had adopted the revised North American Electric Reliability Council Transmission Loading Relief Procedures accepted for filing by that Order.

Copies of the filing have been provided to jurisdictional customers, the Public Utilities Commission of Ohio, the Pennsylvania Public Utility Commission, the Maryland Public Service Commission, the Virginia State Corporation Commission, and the West Virginia Public Service Commission.

Comment date: June 22, 2000, in accordance with Standard Paragraph E at the end of this notice.

4. Virginia Electric and Power Company

[Docket No. ER00-2671-000]

Take notice that on June 1, 2000, Virginia Electric and Power Company (Virginia Power) tendered for filing the Service Agreement between Virginia Electric and Power Company and Associated Electric Cooperative, Inc. Under the Service Agreement, Virginia Power will provide services to Associated Electric Cooperative, Inc. under the terms of the Company's Revised Market-Based Rate Tariff designated as FERC Electric Tariff (Second Revised Volume No. 4), which was accepted by order of the Commission dated August 13, 1998 in Docket No. ER98-3771-000.

Virginia Power requests an effective date of June 1, 2000, the date of filing of the Service Agreement.

Copies of the filing were served upon Associated Electric Cooperative, Inc., the Virginia State Corporation Commission and the North Carolina Utilities Commission.

Comment date: June 22, 2000, in accordance with Standard Paragraph E at the end of this notice.

5. New England Power Pool

[Docket No. ER00-2672-000]

Take notice that on June 1, 2000, the New England Power Pool (NEPOOL) Participants Committee filed a Service Agreement for Through or Out Service or In Service pursuant to Section 205 of the Federal Power Act and 18 CFR 35.12 of the Commission's regulations.

Acceptance of this Service Agreement will recognize the provision of Long-Term Firm Out Service to Williams Energy Marketing &Trading Company, in conjunction with Regional Network Service, in accordance with the provisions of the NEPOOL Open Access Transmission Tariff filed with the Commission on December 31, 1996, as amended and supplemented.

An effective date of July 1, 2000 for commencement of transmission service has been requested.

Copies of this filing were sent to all NEPOOL members, the New England public utility commissioners and all parties to the transaction.

Comment date: June 22, 2000, in accordance with Standard Paragraph E at the end of this notice.

6. New England Power Pool

[Docket No. ER00-2673-000]

Take notice that on June 1, 2000, the New England Power Pool (NEPOOL) Participants Committee filed a Service Agreement for Through or Out Service or In Service pursuant to Section 205 of the Federal Power Act and 18 CFR 35.12 of the Commission's regulations.

Acceptance of this Service Agreement will recognize the provision of Firm In Service transmission to PG&E Energy Trading—Power LP, in conjunction with Regional Network Service, in accordance with the provisions of the NEPOOL Open Access Transmission Tariff filed with the Commission on December 31, 1996, as amended and supplemented.

An effective date of June 1, 2000 for commencement of transmission service has been requested.

Copies of this filing were sent to all NEPOOL members, the New England public utility commissioners and all parties to the transaction.

Comment date: June 22, 2000, in accordance with Standard Paragraph E at the end of this notice.

7. New England Power Pool

[Docket No. ER00-2674-000]

Take notice that on June 1, 2000, the New England Power Pool (NEPOOL) Participants Committee filed for acceptance a signature page to the New England Power Pool Agreement dated September 1, 1971, as amended, signed by Mead Oxford Corporation (Mead Oxford). The NEPOOL Agreement has been designated NEPOOL FPC No. 2.

The Participants Committee states that the Commission's acceptance of Mead Oxford's signature page would permit NEPOOL to expand its membership to include Mead Oxford. The Participants Committee further states that the filed signature page does not change the NEPOOL Agreement in any manner, other than to make Mead Oxford a member in NEPOOL.

The Participants Committee requests an effective date of August 1, 2000, for commencement of participation in NEPOOL by Mead Oxford.

Comment date: June 22, 2000, in accordance with Standard Paragraph E at the end of this notice.

8. New England Power Pool

[Docket No. ER00-2675-000]

Take notice that on June 1, 2000, the New England Power Pool (NEPOOL) Participants Committee filed for acceptance a signature page to the New England Power Pool Agreement dated September 1, 1971, as amended, signed by the Energy Council of Rhode Island (TEC-RI). The NEPOOL Agreement has been designated NEPOOL FPC No. 2.

The Participants Committee states that the Commission's acceptance of TEC-RI's signature page would permit NEPOOL to expand its membership to include TEC-RI. The Participants Committee further states that the filed signature page does not change the NEPOOL Agreement in any manner, other than to make TEC-RI a member in NEPOOL.

The Participants Committee requests an effective date of June 1, 2000, for commencement of participation in NEPOOL by TEC-RI.

Comment date: June 22, 2000, in accordance with Standard Paragraph E at the end of this notice.

9. Panda Perkiomen Power, L.P.

[Docket No. ER00-2676-000]

Take notice that on June 1, 2000, Panda Perkiomen Power, L.P. (Panda Perkiomen), tendered for filing pursuant to Rule 205, 18 CFR 385.205, a petition for waivers and blanket approvals under various regulations of the Commission and for an order accepting its FERC Electric Rate Schedule No. 1, and for the purpose of permitting Panda Perkiomen to assign transmission capacity and to resell Firm Transmission Rights, to be effective no later than sixty (60) days from the date of its filing.

Panda Perkiomen intends to engage in electric power and energy transactions as a marketer and a broker. In transactions where Panda Perkiomen sells electric energy, it proposes to make such sales on rates, terms, and conditions to be mutually agreed to with the purchasing party. Neither Panda Perkiomen nor any of its affiliates is in the business of transmitting or distributing electric power.

Rate Schedule No. 1 provides for the sale of energy and capacity at agreed prices.

Comment date: June 22, 2000, in accordance with Standard Paragraph E at the end of this notice.

10. American Ref-Fuel Company of Delaware Valley, L.P.

[Docket No. ER00-2677-000]

Take notice that on June 1, 2000, American Ref-Fuel Company of Delaware Valley, L.P. (ARC), submitted for filing, pursuant to Section 205 of the Federal Power Act, and Part 35 of the Commission's regulations (18 CFR Part 35), a Petition for authorization to make sales of electric capacity and energy at market-based rates and for related waivers and blanket authorizations.

Comment date: June 22, 2000, in accordance with Standard Paragraph E at the end of this notice.

11. Indianapolis Power & Light Company

[Docket No. ER00-2678-000]

Take notice that on June 1, 2000, Indianapolis Power & Light Company (IPL) tendered for filing blanket service agreements under IPL's Wholesale Power Sales Tariff. The Tariff was accepted for filing effective April 29, 2000 and has been designated as IPL's FERC Electric Tariff Revised Volume 2.

IPL is requesting waiver of notice to permit the service agreements to be made effective May 17, 2000.

A copy of the filing was served upon the parties to the service agreements.

Comment date: June 22, 2000, in accordance with Standard Paragraph E at the end of this notice.

12. Indianapolis Power & Light Company

[Docket No. ER00-2680-000]

Take notice that on June 1, 2000, Indianapolis Power & Light Company (IPL) tendered for filing unexecuted service agreements for service under IPL's Wholesale Power Sales Tariff. The Tariff was accepted for filing effective April 29, 2000 and has been designated as IPL's FERC Electric Tariff Revised Volume 2.

IPL is requesting waiver of notice to permit the service agreements to be made effective June 1, 2000.

A copy of the filing was served upon the parties to the service agreements.

Comment date: June 22, 2000, in accordance with Standard Paragraph E at the end of this notice.

13. Ameren Services Company

[Docket No. ER00-2681-000]

Take notice that on June 1, 2000, Ameren Services Company (AMS) tendered for filing an Interconnection Agreement between AMS and Reliant Energy Shelby County, LP (Reliant). AMS asserts that the purpose of the Agreement is to, among other things, establish the rights and obligations of Reliant, the point of interconnection and Corporate Guaranty.

Comment date: June 22, 2000, in accordance with Standard Paragraph E at the end of this notice.

Standard Paragraph

E. Any person desiring to be heard or to protest such filing should file a motion to intervene or protest with the Federal Energy Regulatory Commission, 888 First Street, NE, Washington, DC 20426, in accordance with rules 211 and 214 of the Commission's rules of practice and procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-14842 Filed 6-12-00; 8:45 am]

BILLING CODE 6717-01-P